DEPARTMENT OF DEFENSE

Office of the Secretary

[Transmittal No. 19-0F]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0F with attached Policy Justification.

Dated: June 7, 2019.
Aaron T. Siegel,
Alternate OSD Federal Register Liaison Officer, Department of Defense.

BILLING CODE 5001-06-P

Transmittal No. 19-0F

REPORT OF ENHANCEMENT OR UPGRADE OF SENSITIVITY OF TECHNOLOGY OR CAPABILITY (SEC. 36(B)(5)(C), AECA)

(i) Purchaser: Government of Poland

(ii) Sec. 36(b)(1), AECA Transmittal No.: 11-54

Date: February 2, 2012

Military Department: Navy

(iii) Description: On February 2, 2012, Congress was notified by Congressional certification transmittal number 11-54, of the possible sale under Section 36(b)(l) of the Arms Export Control Act of 93 AIM-9X-2 Sidewinder Block II Tactical Missiles, 4 AIM-9X-2 Captive Air Training Missiles (CATM), 65 AIM-120C-7 Advanced Medium Range Air-to-Air Missiles, 42 GBU-49 Enhanced PAVEWAY II 500 lb Bombs, 200 GBU-54 (2000 lb) Laser Joint Direct Attack Munitions (JDAM) Bombs, 642 BLU-111 (500 lb) General Purpose Bombs, 127 MK-82 (500 lb) General Purpose Bombs, 80 BLU-117 (2000 lb) General Purpose Bombs, 4 MK-84 (2000 lb) Inert General Purpose Bombs, 9 F-100-PW-229 Engine Core Modules, 28 Night Vision Devices plus 6 spare intensifier tubes, 12 Autonomous Air Combat Maneuvering Instrumentation P5 pods, a Joint Mission Planning System, and five years of follow-on support and sustainment services for Poland's F-16 fleet, spare and repair parts, support and test equipment, publications and technical documentation, system overhauls and upgrades, personnel training and training equipment, U.S. Government and contractor technical support, and other related elements of program support. The estimated total cost was $447 million. Major Defense Equipment (MDE) constituted $219 million of this total.

This transmittal notifies an additional twenty-seven (27) AIM-9X-2 Sidewinder Block II Tactical Missiles and eighteen (18) AIM-9X-2 Captive Air Training Missiles (CATM). This notification also includes twelve (12) AIM-9X Tactical Guidance Units and six (6) AIM-9X CATM Guidance Units. These changes will increase the MDE value by $35 million, for a revised MDE value of $254 million. The revised total case value will be $482 million.

(iv) Significance: This proposed sale of additional missiles and equipment will contribute to the modernization of Poland's F-16 aircraft fleet, enhancing its ability to meet current and future threats.

(v) Justification: Poland is a major NATO ally and a key partner of the United States in ensuring peace and stability in Europe. Poland requests these capabilities to provide for the defense of deployed troops, regional security, and interoperability with the United States.

(vi) Date Report Delivered to Congress: April 9, 2019

[FR Doc. 2019-12388 Filed 6-11-19; 8:45 am]

BILLING CODE 5001-06-C